FEDERAL RESERVE SYSTEM

[Docket No. R-1098]

Pro Forma Financial Statements For Federal Reserve Priced Services

AGENCY: Board of Governors of the Federal Reserve System.

ACTION: Notice with request for comments.

SUMMARY: The Board requests comment on a proposal to discontinue the quarterly publication of interim pro forma financial statements for Federal Reserve priced services (pro formas). The Board believes information provided in the quarterly pro formas are of little value to parties interested in the Federal Reserve's priced-services financial results because it does not provide a relevant long-term cost-recovery assessment.

DATES: Comments must be submitted by April 23, 2001.

ADDRESSES: Comments, which should refer to Docket No. R-1098, may be mailed to Ms. Jennifer J. Johnson, Secretary, Board of Governors of the Federal Reserve System, 20th and C Streets, NW, Washington, DC 20551 or mailed electronically to regs.comments@federalreserve.gov. Comments addressed to Ms. Johnson also may be delivered to the Board's mail room between 8:45 a.m. and 5:15 p.m. and to the security control room outside of those hours. Both the mail room and the security control room are accessible from the courtyard entrance on 20th Street between Constitution Avenue and C Street, NW. Comments may be inspected in Room MP-500 between 9:00 a.m. and 5:00 p.m. weekdays, pursuant to § 261.12, except as provided in § 261.14 of the Board's Rules Regarding Availability of Information, 12 CFR 261.12 and 261.14.

FOR FURTHER INFORMATION CONTACT: Gregory L. Evans, Manager (202/452-3945); or Elizabeth Miyagi, Financial Analyst (202/452-2222), Division of Reserve Bank Operations and Payment Systems.

SUPPLEMENTARY INFORMATION: Currently, the Board publishes pro forma financial statements for Federal Reserve priced services (pro formas) for the first, second, and third quarters each year in the Federal Reserve Bulletin and the annual pro formas in the Annual Report of the Board of Governors of the Federal Reserve System.

The Monetary Control Act of 1980 (MCA) requires the Federal Reserve to set fees for its priced services to recover, over the long term, its actual costs of providing the services, as well as imputed costs and profits. Although it is not required by MCA, the Board has published the pro formas since 1984 to provide information to the public in a manner that is similar to the information published by other service providers.

The Federal Reserve uses a ten-year cost recovery rate as a benchmark to assess Reserve Bank compliance with MCA. The Board believes the ten-year historical recovery rate, together with the annual pro formas published in the Board's Annual Report and the additional cost-recovery information included in the annual repricing Federal Register notice, provides the relevant information for the public to evaluate the Federal Reserve's performance under the MCA. The information provided in the quarterly pro formas, therefore, are of little value to parties interested in priced-services financial results because they do not provide a relevant long-term cost-recovery assessment.

Accordingly, the Board proposes to discontinue the quarterly publication of the pro formas. The Board will continue to publish, however, the annual pro formas in the Annual Report and the additional cost-recovery information included in the annual repricing Federal Register notice. The latest publication of the quarterly pro formas may be found in the February 2001 issue of the Federal Reserve Bulletin. The public may order the document online from the Board's web site at http://www.federalreserve.gov/pubs/bulletin/default.htm.

The Board requests comments on whether there are benefits to continuing the publication of the quarterly pro formas and, if so, what elements of the current pro formas provide the most relevant information.

By order of the Board of Governors of the Federal Reserve System, March 22, 2001.
Robert deV. Frierson,
Associate Secretary of the Board.

[FR Doc. 01-7570 Filed 3-27-01; 8:45 am]

BILLING CODE 6210-01-P